DEPARTMENT OF EDUCATION

Notice of Proposed Information Collection Requests; Office of Planning, Evaluation and Policy Development; Strategies for Preparing At-Risk Youth for Postsecondary Success

SUMMARY: Strategies for Preparing At-Risk Youth for Postsecondary Success focuses on preventing students from dropping out and preparing them for postsecondary education or training.

DATES: Interested persons are invited to submit comments on or before July 23, 2012.

ADDRESSES: Written comments regarding burden and/or the collection activity requirements should be electronically mailed to ICDocketMgr@ed.gov or mailed to U.S. Department of Education, 400 Maryland Avenue SW., LBJ, Washington, DC 20202-4537. Copies of the proposed information collection request may be accessed from http://edicsweb.ed.gov, by selecting the “Browse Pending Collections” link and by clicking on link number 04858. When you access the information collection, click on “Download Attachments” to view. Written requests for information should be addressed to U.S. Department of Education, 400 Maryland Avenue SW., LBJ, Washington, DC 20202-4537. Requests may also be electronically mailed to ICDocketMgr@ed.gov or faxed to 202-401-0920. Please specify the complete title of the information collection and OMB Control Number when making your request.

Individuals who use a telecommunications device for the deaf (TDD) may call the Federal Information Relay Service (FIRS) at 1-800-877-8339.

SUPPLEMENTARY INFORMATION: Section 3506 of the Paperwork Reduction Act of 1995 (44 U.S.C. Chapter 35) requires that Federal agencies provide interested parties an early opportunity to comment on information collection requests. The Acting Director, Information Collection Clearance Division, Privacy, Information and Records Management Services, Office of Management, publishes this notice containing proposed information collection requests at the beginning of the Departmental review of the information collection. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Strategies for Preparing At-Risk Youth for Postsecondary Success.

OMB Control Number: Pending.

Type of Review: New.

Total Estimated Number of Annual Responses: 132.

Total Estimated Number of Annual Burden Hours: 114.

Abstract: Educators are increasingly concerned about poor high school graduation rates, especially among at-risk youth. Many of the programs adopted by districts and schools to decrease the dropout rate traditionally set the goal of completing high school. Programs that meet the dual goals of supporting at-risk youth to graduate from high school and then enroll in and succeed in postsecondary education are not commonly found in most school districts and few studies of dropout prevention programs have a postsecondary focus. This study aims to fill a gap by conducting qualitative case studies of up to 15 sites. This study will systematically analyze qualitative data across multiple respondents to generate portraits of programs and strategies that the sites use, lessons based on implementation successes and challenges, and evidence suggesting their effectiveness in improving the outcomes of interest.

To complete the study, the U.S. Department of Education is requesting OMB approval of two related qualitative data collection activities: (1) A phone screen with local program managers to determine the final sample of case studies and (2) up to 15 site visits to a purposive case study sample. Although the lessons are not generalizable to a larger population because the sample is purposive and small, the case studies will provide rich contextual information to help practitioners assess the applicability of the lessons in their own schools or districts.

Dated: May 18, 2012.
Stephanie Valentine,
Acting Director, Information Collection Clearance Division, Privacy, Information and Records Management Services, Office of Management.

[FR Doc. 2012-12536 Filed 5-22-12; 8:45 am]

BILLING CODE 4000-01-P